ENVIRONMENTAL PROTECTION AGENCY

[ER-FRL-6624-8]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated May 18, 2001 (66 FR 27647).

Draft EISs

ERP No. D-COE-A39138-00 Rating **3, Programmatic EIS—Nationwide Permits Procedures Review and Examination, US Army Corps of Engineers Section 10 and 404 Permit Issuance.

Summary: EPA believes the data used in the Draft PEIS and the methods used to analyze and draw conclusions from that data were inadequate, thereby preventing a full disclosure of potentially significant environmental impacts of the proposal. EPA recommended that the draft PEIS be formally revised and made available for public comment in a supplemental or revised draft PEIS.

ERP No. D-USA-A10074-00 Rating EC2, Programmatic EIS—Army Transformation, Army Vision to Address the Changing Circumstances of the 21st Century, Transformation in three Phases: Initial Phase, Interim Capacibility Phase, and an Objective Force Phase.

Summary: EPA expressed environmental concerns regarding air, land use, water resources, and noise and requested additional information regarding impact analysis.

Dated: December 18, 2001.
Joseph C. Montgomery,
Director, NEPA Compliance Division, Office of Federal Activities.

[FR Doc. 01-31538 Filed 12-20-01; 8:45 am]

BILLING CODE 6560-50-P